DEPARTMENT OF JUSTICE

[OMB Number 1121-0296]

Agency Information Collection Activities: Proposed Collection; Comments Requested; Reinstatement, With Change, of a Previously Approved Collection for Which Approval Has Expired: 2018 Census of Medical Examiner and Coroner Offices (CMEC)

AGENCY: Bureau of Justice Statistics, Department of Justice.

ACTION: 60-day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until February 11, 2019.

FOR FURTHER INFORMATION CONTACT: If you have additional comments especially on the estimated public burden or associated response time, suggestions, or need a copy of the proposed information collection instrument with instructions or additional information, please contact Connor Brooks, Statistician, Law Enforcement Statistics Unit, Bureau of Justice Statistics, 810 Seventh Street NW, Washington, DC 20531 (email: Connor.Brooks@usdoj.gov; phone: 202-514-8633).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Reinstatement of the Census of Medical Examiner and Coroner Offices, with changes, of a previously approved collection for which approval has expired.

(2) The Title of the Form/Collection: 2018 Census of Medical Examiner and Coroner Offices.

(3) The agency form number, if any, and the applicable component of the Department sponsoring the collection: The form number is CMEC-1. The applicable component within the Department of Justice is the Bureau of Justice Statistics, Office of Justice Programs.

(4) Affected public who will be asked or required to respond, as well as a brief abstract:

This information collection is a census of medical examiner and coroner offices. The 2018 survey is revised from the data collection referencing 2004. BJS plans to field the 2018 CMEC from May through November 2019. Respondents will be the medical examiners and coroners (or members of their staff) working in medicolegal death investigation offices.

Abstract: The 2018 CMEC will focus on the same topics as the 2004: The number and type of medical examiner and coroner offices operating in the U.S., staff at these offices, budget and capital resources, workload, policies and procedures regarding casework, specialized death investigations, records and evidence retention, resources, and operations. The survey was assessed by a panel of practitioners and subject matter experts. Results from these efforts were used to revise the survey to ensure content was up-to-date and relevant to the medicolegal death investigation system today. The survey was also revised to improve clarity and ease of answering questions. Suggestions resulting from this review were incorporated into the survey and then cognitively tested with 14 medical examiner and coroner offices.

(5) An estimate of the total number of respondents and the amount of time estimated for an average respondent to respond: A projected 2,400 respondents will take an average of 1.5 hours each to complete form CMEC-1, including time to research or find information not readily available. In addition, an estimated 1,100 respondents will be contacted for data quality follow-up by phone at 15 minutes per call.

(6) An estimate of the total public burden (in hours) associated with the collection: There are an estimated 3,875 total burden hours associated with this information collection.

If additional information is required contact: Melody Braswell, Department Clearance Officer, United States Department of Justice, Justice Management Division, Policy and Planning Staff, Two Constitution Square, 145 N Street NE, 3E.405A, Washington, DC 20530.

Dated: December 7, 2018.
Melody Braswell,
Department Clearance Officer for PRA, U.S. Department of Justice.

[FR Doc. 2018-26881 Filed 12-11-18; 8:45 am]

BILLING CODE 4410-18-P